DEPARTMENT OF COMMERCE

International Trade Administration

A-351-838, A-331-802, A-533-840, A-549-822

Certain Frozen Warmwater Shrimp from Brazil, Ecuador, India and Thailand: Notice of Initiation of Administrative Reviews

AGENCY: Import Administration, International Trade Administration, Department of Commerce.

SUMMARY: The Department of Commerce (“Department”) received timely requests to conduct administrative reviews of the antidumping duty orders on certain frozen warmwater shrimp (“shrimp”) from Brazil, Ecuador, India and Thailand. The anniversary month of these orders is February. In accordance with 19 CFR 351.221, we are initiating these administrative reviews.

EFFECTIVE DATE: April 7, 2008.

FOR FURTHER INFORMATION CONTACT: Kate Johnson at (202) 482-4929 (Brazil), David Goldberger at (202) 482-4136 (Ecuador), Elizabeth Eastwood at (202) 482-3874 (India), and Irina Itkin at (202) 482-0656 (Thailand), AD/CVD Operations, Office 2, Import Administration, International Trade Administration, U.S. Department of Commerce, 14th Street and Constitution Avenue, N.W., Washington, D.C. 20230.

SUPPLEMENTARY INFORMATION:

Background

The Department received timely requests from the petitioner¹, the Louisiana Shrimp Association (“LSA”), and certain individual companies, in accordance with 19 CFR 351.213(b), during the anniversary month of February 2008, for administrative reviews of the antidumping duty orders on shrimp from Brazil, Ecuador, India, and Thailand. The Department is now initiating administrative reviews of these orders covering 43 companies for Brazil, 81 companies for Ecuador, 336 companies for India, and 165 companies for Thailand, as noted in the “Initiation of Reviews” section of this notice.

¹ The petitioner is the Ad Hoc Shrimp Trade Action Committee.

In accordance with the Department's recent statement in its notice of opportunity to request administrative reviews (see Antidumping or Countervailing Duty Order, Finding, or Suspended Investigation; Opportunity To Request Administrative Review, 73 FR 6477, 6478 (February 4, 2008)), we have not initiated administrative reviews with respect to those companies which the Department was unable to locate in prior segments and for which no new information as to the party's location was provided by the requestor. We have also not initiated administrative reviews with respect to those companies we previously determined to be duplicates or to no longer exist. See “Initiation of Reviews,” “Incomplete Requests for Review,” and “Requests for Review of Non-Existent Companies” sections of this notice for country-specific lists of the companies for which we did not initiate an administrative review.

Initiation of Reviews

In accordance with section 751(a)(1) of the Tariff Act of 1930, as amended (“the Act”), we are initiating administrative reviews of the antidumping duty orders on shrimp from Brazil, Ecuador, India and Thailand. We intend to issue the final results of these reviews by February 28, 2009.

BRAZIL
Antidumping Duty Proceeding | Period to be Reviewed
Certain Frozen Warmwater Shrimp, A-351-838 | 2/1/07 - 1/31/08
Acarau Pesca Distr. de Pescado Imp. e Exp. Ltda.
Amazonas Industria Alimenticias SA
Aquacultura Fortaleza Aquafort SA
Aquática Maricultura do Brasil Ltda. /Aquafeed do Brasil Ltda. - Note 1
Artico S/A
Bramex Brasil Mercantil Ltda.
Camanor - Produtos Marinhos Ltda.
Cida Central de Ind. E Distribuicao de Alimentos Ltda.- Note 2
Compescal - Comércio de Pescado Aracatiense Ltda.
Compex Industria E Comercio de Pesca E Exportacao Ltd.
Dafruta Ind. & Comercio
Empaf Empresa de Armazenagem Frigorifica Ltda./Maricultura Netuno SA - Note 3
Esperanca Pescados
Intermarin Servicios Nauticos
Ipesca
ITA Fish - S.W.F. Importacao e Exportacao Ltda.
ITA Fish Transp. Comercio Pesca
J K Pesca Ltda.
Leardini Pescados Ltda.
Lusomar Maricultura Ltda.
Maricultura Rio Grandense
Maricultura Tropical
Marine Maricultura do Nordeste SA - Note 4
MM Monteiro Pesca E Exportacao Ltda.
Mucuripe Pesca Ltda., Epp.
Natal Pesca
Norte Pesca SA
Orion Pesca Ltda.
Pesqueira Maguary Ltda. - Note 5
Potiguar Alimentos do Mar Ltda.
Potipora Aquacultura Ltda.
Qualimar Comercio Importaçao E Exportacao Ltda.
Santa Lavinia Comercio e Exportacio Ltda.
Seafarm Criacao E Comercio de Produtos Aquaticos Ltda.
Secom Aquicultura Comercio E Industria SA
Silva Embarcacao
SM Pescados Indústria Comrcio E Exportaç o Ltda. Note 6
Sohagro Marina do Nordeste SA
Tecmares Maricultura Ltda.
Terracor Tdg. Exp. E Imp. Ltda.
Torquato Pontes Pescados SA
Tropical Pesca Ltda.
Valenca da Bahia Maricultura SA
Note 1 - In the 2004-2006 administrative review, the Department found that Aquática Maricultura do Brasil Ltda. and Aquafeed do Brasil Ltda. comprised a single entity. See Certain Frozen Warmwater Shrimp from Brazil: Final Results and Partial Rescission of Antidumping Duty Administrative Review, 72 FR 52061, 52064 (Sept. 12, 2007) (Brazil Final Results AR1). Absent information to the contrary, we intend to continue to treat these companies as a single entity for purposes of the 2007-2008 administrative review.
Note 2 - We received a request for an administrative review of Cida Central de Ind. e Distribuicao de Alimentos Ltda. and of Cida Central de Industria. The latter company name, which was accompanied by an incomplete address in the review request, was determined in the 2006-2007 administrative review to be a variation of the name Cida Central de Ind. e Distribuicao de Alimentos Ltda. See Notice of Initiation of Administrative Reviews of the Antidumping Duty Orders on Certain Frozen Warmwater Shrimp from Brazil, Ecuador, India and Thailand, 72 FR 17100, 17109 (Apr. 6, 2007) (2006-2007 Administrative Review Initiation Notice). Therefore, we are initiating the 2007-2008 administrative review only with respect to Cida Central de Ind. e Distribuicao de Alimentos Ltda.
Note 3- We received a request for an administrative review of Empaf - Empresa de Armazenagem Frigorifica Ltda. (“Empaf”) and Maricultura Netuno S.A. (“Maricultura Netuno”). In the original investigation, we found that Empaf and Maricultura Netuno comprised a single entity. See Notice of Final Determination of Sales at Less Than Fair Value: Certain Frozen and Canned Warmwater Shrimp from Brazil, 69 FR 76910 (Dec. 23, 2004). In the 2006-2007 administrative review, we preliminarily determined that Netuno Alimentos S.A. is the successor in interest to Empaf. See Certain Frozen Warmwater Shrimp from Brazil: Preliminary Results and Preliminary Partial Rescission of Antidumping Duty Administrative Review, 73 FR 12081 (Mar. 6, 2008). If the Department continues to make this finding in the final results of the 2006-2007 administrative review, we will rescind this review with respect to Empaf, and treat Netuno Alimentos S.A. and Maricultura Netuno as a single entity for purposes of the 2007-2008 administrative review, absent evidence to the contrary.
Note 4 - We received requests for review of Marine Maricultura do Nordeste SA, and Marine Maricultura do Nordeste with two different addresses. In the 2004-2006 administrative review, we confirmed that Marine Maricultura do Nordeste SA is the correct company name, and that the company operated from two locations. See Brazil Final Results AR1, 72 FR at 52062. Therefore, we are initiating the 2007-2008 administrative review only with respect to Marine Maricultura do Nordeste SA.
Note 5 - We received two review requests for Pesquira Maguary Ltda. with two different addresses. Information obtained in the 2006-2007 administrative review indicated that the two addresses apply to the same company. See Memorandum to the File entitled “Placement of Information from the 2006-2007 Administrative Review on the Record of the 2007-2008 Administrative Review,” dated March 31, 2008. Therefore, we have included this company only once for purposes of initiation of the 2007-2008 administrative review.
Note 6 - We received two review requests for SM Pescados Industria Comercio E Exportacao Ltda, both with virtually the same address. Therefore, we are including this company only once for purposes of initiation of the 2007-2008 administrative review.

ECUADOR
Certain Frozen Warmwater Shrimp, A-331-802 | 2/1/07- 8/14/07
Agricola e Industrial Ecuaplantation SA ^
Agrol SA
Alberto Xavier Mosquera Rosado
Alquimia Marina SA
Babychic SA
Biolife SA
Braistar
Camaronera Jenn Briann
Camarones
Comar Cia Ltda. ^
Doblertel SA
Dumary SA
Dunci SA
El Rosario Ersa SA
Empacadora Bilbo SA (Bilbosa)
Empacadora del Pacifico SA (EDPACIF SA)^
Empacadora Dufer Cia. Ltda. (DUFER)
Empacadora Grupo Gran Mar (Empagran) SA^
Empacadora Nacional CA
Empacadora y Exportadora Calvi Cia. Ltda.
Emprede SA
Estar CA
Exporclam SA
Exporklore SA
Exportadora Bananera Noboa
Exportadora de Productos de Mar (Produmar)
Exportadora del Oceano (Oceanexa) CA
Exportadora Langosmar SA
Exportadora del Oceano Pacifico SA (OCEANPAC)
Exports Langosmar SA
Fortumar Ecuador SA
Gambas del Pacifico SA
Gondi SA
Hector Canino Marty
Hectorosa SA
Industrial Pesquera Santa Priscila SA (Santa Priscila)
Inepexa SA
Jorge Luis Benitez Lopez^
Karpicorp SA
Luis Loaiza Alvarez
Mardex Cia. Ltda.
Marine
Marines CA
Mariscos de Chupadores Chupamar
Mariscos del Ecuador C. Ltda. (Marecuador) ^
Natural Select SA
Negocios Industriales Real Nirsa SA (NIRSA)
Novapesca SA
Ocean Fish
Oceaninvest SA
Oceanmundo SA
Oceanpro SA
Operadora y Procesadora de Productos Marinos SA (Omarsa)
Oyerly SA
P.C. Seafood SA
Pacfish SA^^
PCC Congelados & Frescos SA
Pescazul SA
Peslasa SA
Phillips Seafoods of Ecuador CA (Phillips)
Pisacua SA
Procesadora del Rio SA (Proriosa) ^^
Productos Cultivados del Mar Proc.
Productos Cultivados del Mar Proculmar Cia. Ltda.
Productos del Mar Santa Rosa Cia. Ltda. (Promarosa) ^
Promarisco SA
Propemar SA
Provefrut
Rommy Roxana Alvarez Anchundia
Sea Pronto Hector Marty Canino (Sea Pronto)
Sociedad Atlantico Pacifico SA
Sociedad Nacional de Galapagos SA (SONGA)
Soitgar SA
Studmark SA
Tecnica y Comercio de la Pesca CA (TECOPESCA) ^
Tolyp SA
Trans Ocean
Transcity SA
Transmarina CA
Transocean Ecuador SA
Uniline Transport System
^ The petitioner's and/or respondents' requests for review included certain companies with similar names. For purposes of initiation, we have treated these companies as the same entity and initiated the review on the correct company names based on information obtained in the 2004-2006 or 2006-2007 administrative review. See 2006-2007 Administrative Review Initiation Notice, 72 FR at 17109, and Memorandum to the File entitled “Placement of Information from the 2006-2007 Administrative Review on the Record of the 2007-2008 Administrative Review,” dated March 31, 2008.
^^ The petitioner's requests for review included certain companies with the same or similar names but different addresses. For purposes of initiation, we have treated these companies as the same entity and initiated the review on the correct company names based on information obtained in the 2004-2006 or 2006-2007 administrative review. See 2006-2007 Administrative Review Initiation Notice, 72 FR at 17109, and Memorandum to the File entitled “Placement of Information from the 2006-2007 Administrative Review on the Record of the 2007-2008 Administrative Review,” dated March 31, 2008.

INDIA
Certain Frozen Warmwater Shrimp, A-533-840 | 2/1/07 - 1/31/08
Abad Fisheries
Accelerated Freeze-Drying Co.
A.S. Marine Industries Pvt. Ltd.
Adani Exports Ltd
Aditya Udyog
Agri Marine Exports Ltd.
AL Mustafa Exp & Imp
Alapatt Marine Exports
All Seas Marine P. Ltd.
Allana Frozen Foods Pvt. Ltd.
Allanasons Ltd.
Alsa Marine & Harvests Ltd.
Ameena Enterprises
AMI Enterprises
Amison Foods Ltd.
Amison Seafoods Ltd.
Amulya Sea Foods
Anand Aqua Exports
Ananda Aqua Exports (P) Ltd.
Ananda Foods
Andaman Seafoods Pvt. Ltd.
Angelique Intl
Anjaneya Seafoods
Anjani Marine Traders
Apex Exports #
Aqua Star Marine Foods
Arsha Seafood Exports Pvt. Ltd.
ASF Seafoods
Asvini Exports
Asvini Fisheries Limited ## / ######
Asvini Fisheries Private Limited ##
Aswin Associates
Ashwini Frozen Foods
Avanti Feeds Limited
Ayshwarya Seafood Private Limited
Baby Marine (Eastern) Exports
Baby Marine Exports
Baby Marine International
Baby Marine Products
Baby Marine Sarass
Balaji Seafood Exports I Ltd.
Baraka Overseas Traders
Bell Foods (Marine Division)
Bharat Seafoods
Bhatsons Aquatic Products
Bhavani Seafoods
Bhisti Exports
Bijaya Marine Products
Bilal Fish Suppliers
Blue Water Foods & Exports P. Ltd.
Bluefin Enterprises
Bluepark Seafoods Pvt. Ltd.
BMR Exports
Britto Exports
C P Aquaculture (India) Ltd.
Calcutta Seafoods
Calcutta Seafoods Pvt. Ltd.
Capital Freezing Complex
Capithan Exporting Co.
Castlerock Fisheries Ltd.
Cham Exports Ltd.
Cham Ocean Treasures Co., Ltd.
Cham Trading Organization
Chand International
Chemmeens (Regd)
Cherukattu Industries (Marine Div.)
Choice Canning Company
Choice Trading Corporation Pvt. Ltd. #
Coastal Corporation Ltd.
Cochin Frozen Food Exports Pvt. Ltd.
Corlim Marine Exports Pvt. Ltd.
Coreline Exports
Danda Fisheries
Dariapur Aquatic Pvt. Ltd.
Deepmala Marine Exports
Devi Fisheries Limited
Devi Marine Food Exports Private Limited ###
Devi Sea Foods Limited
Dhanamjaya Impex P. Ltd.
Diamond Seafoods Exports #######
Digha Seafood Exports
Dorothy Foods
Edhayam Frozen Foods Pvt. Ltd. #######
El-Te Marine Products
Esmario Export Enterprises
Excel Ice Services/Chirag Int'l
Exporter Coreline Exports
Falcon Marine Exports Limited ######
Firoz & Company
Five Star Marine Exports Private Limited
Forstar Frozen Foods Pvt. Ltd.
Freeze Engineering Industries (Pvt. Ltd.)
Frigerio Conserva Allana Limited
Frontline Exports Pvt. Ltd.
G A Randerian Ltd.
G.KS Business Associates Pvt. Ltd.
Gadre Marine Exports
Gajula Exim P. Ltd.
Galaxy Maritech Exports P. Ltd.
Gausia Cold Storage P. Ltd.
Gayatri Seafoods
Geo Aquatic Products (P) Ltd.
Geo Seafoods
Global Sea Foods & Hotel Ltd.
Goan Bounty
Gold Farm Foods (P) Ltd.
Golden Star Cold Storage
Gopal Seafoods
Grandtrust Overseas (P) Ltd.
Gtc Global Ltd.
GVR Exports Pvt. Ltd.
HA & R Enterprises
HIC ABF Special Foods Pvt. Ltd.
Hanswati Exports P. Ltd.
Haripriya Marine Export Pvt. Ltd.
Hindustan Lever, Ltd.
Hiravata Ice & Cold Storage
Hiravati Exports Pvt. Ltd.
Hiravati International Pvt. Ltd. #
HMG Industries Ltd.
Honest Frozen Food Company
IFB Agro Industries Limited #
India CMS Adani Exports
India Seafoods
Indian Aquatic Products
Indian Seafood Corporation
Indo Aquatics
Innovative Foods Limited
Interfish
International Freezefish Exports
InterSea Exports Corporation
Interseas
ITC Ltd.
J R K Seafoods Pvt. Ltd.
Jagadeesh Marine Exports
Jaya Satya Marine Exports
Jaya Satya Marine Exports Pvt. Ltd.
Jayalakshmi Sea Foods Private Limited
Jinny Marine Traders
Jiya Packagings
K R M Marine Exports Ltd.
K V Marine Exports #
Kadalkanny Frozen Foods #######
Kader Exports Private Limited ###
Kader Investment and Trading Company Private Limited ###
Kalyanee Marine
Kaushalya Aqua Marine Product Exports Pvt. Ltd.
Kay Kay Exports
Keshodwala Foods
Key Foods
King Fish Industries
Kings Marine Products #
Koluthara Exports Ltd.
Konark Aquatics & Exports Pvt. Ltd.
Konkan Fisheries Pvt. Ltd.
L.G Seafoods
Lakshmi Marine Products
Lansea Foods Pvt. Ltd.
Laxmi Narayan Exports
Lewis Natural Foods Ltd.
Liberty Frozen Foods Pvt. Ltd.
Liberty Oil Mills Ltd. ###
Libran Cold Storages (P) Ltd.
Lotus Sea Farms
Lourde Exports
M K Exports
M. R. H. Trading Company
Magnum Estate Private Limited
Magnum Export
Magnum Sea Foods Pvt. Ltd.
Malabar Arabian Fisheries
Malabar Marine Exports)
Malnad Exports Pvt. Ltd.
Mamta Cold Storage
Mangala Marine Exim India Private Ltd. ######
Mangala Sea Products
Manufacturer Falcon Marine Exports
Marina Marine Exports
Marine Food Packers
Meenaxi Fisheries Pvt. Ltd.
Miki Exports International
MSC Marine Exporters
MTR Foods
Mumbai Kamgar MGSM Ltd.
N.C. Das & Company
Naga Hanuman Fish Packers
Naik Frozen Foods
Naik Ice & Cold Storage
Naik Seafoods Ltd.
Nas Fisheries Pvt Ltd.
National Seafoods Company
National Steel
National Steel & Agro Ind.
Navayuga Exports Ltd. # / ######
Nekkanti Sea Foods Limited
New Royal Frozen Foods
NGR Aqua International
Nila Sea Foods Pvt. Ltd.
Noble Aqua Pvt. Ltd.
Nsil Exports
Omsons Marines Ltd.
Overseas Marine Export
Padmaja Exports
Partytime Ice Pvt Ltd.
Penver Products (P) Ltd.
Philips Foods India Pvt Ltd.
Pijikay International Exports P Ltd.
Pisces Seafood International
Premier Exports International
Premier Marine Foods
Premier Marine Products ###
Premier Seafoods Exim (P) Ltd.
R. F. Exports
R K Ice & Cold Storage
Raa Systems Pvt. Ltd.
Rahul Foods (GOA)
Rahul International
Raj International
Raju Exports
Ramalmgeswara Proteins & Foods Ltd.
Rameshwar Cold Storage
Ram's Assorted Cold Storage Ltd.
Raunaq Ice & Cold Storage
Ravi Frozen Foods Ltd.
Raysons Aquatics Pvt. Ltd.
Razban Seafoods Ltd.
RBT Exports
Regent Marine Industries
Relish Foods
Riviera Exports Pvt. Ltd.
Rohi Marine Private Ltd.
Royal Cold Storage India P Ltd. #
Royal Link Exports
Rubian Exports
Ruby Marine Foods
Ruchi Worldwide
RVR Marine Products Private Limited ######
S A Exports
S Chanchala Combines
S K Exports (P) Ltd.
SLS Exports Pvt. Ltd.
S S International
S & S Seafoods
Sabri Food Products
Safa Enterprises
Sagar Foods
Sagar Grandhi Exports Pvt. Ltd.
Sagar Samrat Seafoods
Sagarvihar Fisheries Pvt. Ltd. ####
Sai Sea Foods
Sai Marine Exports Pvt. Ltd. #
Sai Sea Foods a.k.a. Sai Marine Exports Pvt. Ltd.
Salet Seafoods Pvt Ltd.
Samrat Middle East Exports (P) Ltd.
Sanchita Marine Products P Ltd
Sandhya Aqua Exports Pvt. Ltd.
Sandhya Aqua Exports
Sandhya Marines Limited
Santhi Fisheries & Exports Ltd.
Sarveshwari Ice & Cold Storage P Ltd.
Satya Seafoods Private Limited
Satyam Marine Exports
Sawant Food Products
Sea Rose Marines (P) Ltd.
Seagold Overseas Pvt. Ltd.
Sealand Fisheries Ltd.
Seaperl Industries
Selvam Exports Private Limited #
Sharat Industries Ltd.######
Shimpo Exports
Shipper Exporter National Steel
Shippers Exports
Shroff Processed Food & Cold ZStorage P Ltd.
Siddiq Seafoods
Silver Seafood
Sita Marine Exports
Skyfish
Sonia Fisheries
Sourab
Sprint Exports Pvt. Ltd. ######
Sreevas Export Enterprises
Sri Chandrakantha Marine Exports, Ltd. ########
Sri Sakkthi Cold Storage
Sri Sakthi Marine Products P Ltd.
Sri Satya Marine Exports
Sri Sidhi Freezers & Exporters Pvt. Ltd.
Sri Venkata Padmavathi Marine Foods Pvt. Ltd.
SSF Ltd.
Star Agro Marine Exports Private Limited
Star Fish Exports
Sterling Foods
Sun Bio-Technology Ltd.
Supreme Exports
Surya Marine Exports #####
Suryamitra Exim (P) Ltd. #####
Suvarna Rekha Exports Private Limited
Suvarna Rekha Marines P Ltd.
TBR Exports Pvt Ltd.
Teekay Maine P. Ltd.
The Canning Industries (Cochin) Ltd.
The Waterbase Limited
Theva & Company #######
Tejaswani Enterprises
Tony Harris Seafoods Ltd.
Tri Marine Foods Pvt. Ltd.
Trinity Exports
Tri-Tee Seafood Company
Triveni Fisheries P Ltd.
Ulka Seafoods (P) Ltd.
Uniroyal Marine Exports Ltd.
Universal Cold Storage Private Limited ### / ######
Upasana Exports
Usha Seafoods
V Marine Exports
V.S Exim Pvt Ltd.
Vaibhav Sea Foods
Varnita Cold Storage
Veejay Impex
Veraval Marines & Chemicals P Ltd.
Victoria Marine & Agro Exports Ltd.
Vijayalaxmi Seafoods
Vinner Marine
Vishal Exports
Wellcome Fisheries Limited
Winner Seafoods
Z A. Food Products
# We have received multiple review requests for companies with the same name but different addresses. For purposes of initiation, we have treated these companies as separate entities, pending resolution of the issue as to whether these comprise distinct entities (or whether they are multiple locations of the same entity).
## In the 2006-2007 administrative review, the Department preliminarily found that Asvini Fisheries Private Limited is the successor-in-interest to Asvini Fisheries Limited. See Certain Frozen Warmwater Shrimp from India: Preliminary Results and Preliminary Partial Rescission of Antidumping Duty Administrative Review, 73 FR 12103, 12105-06 (Mar. 6, 2008) (2006-2007 Indian Shrimp Preliminary Results). If the Department continues to make this finding in the final results of the 2006-2007 administrative review, we will rescind this review with respect to Asvini Fisheries Limited.
### In the 2004-2006 administrative review, the Department found that the following companies comprised a single entity: Devi Marine Food Exports Private Limited, Kader Investment and Trading Company Private Limited, Kader Exports Private Limited, Liberty Frozen Foods Private Limited, Liberty Oil Mills Limited, Premier Marine Products, and Universal Cold Storage Private Limited. See Certain Frozen Warmwater Shrimp from India: Final Results and Partial Rescission of Antidumping Duty Administrative Review, 72 FR 52055, 52058 (Sept. 12, 2007). Absent information to the contrary, we intend to continue to treat these companies as a single entity for purposes of this administrative review.
#### In the 2004-2006 administrative review, Sagarvihar Fisheries Pvt. Ltd. informed the Department that it is now doing business as Indepesca Overseas Pvt. Ltd. However, in the course of that review, the petitioner withdrew its review request for Sagarvihar Fisheries Pvt. Ltd. See Certain Frozen Warmwater Shrimp From India; Partial Rescission of Antidumping Duty Administrative Review, 71 FR 41419, 41421 (July 21, 2006). Therefore, the Department will only include Sagarvihar Fisheries Pvt. Ltd. in this review (via its exports under the name Indepesca Overseas Pvt. Ltd.) if it determines that Indepesca Overseas Pvt. Ltd. is the successor in interest to this company.
##### In the 2006-2007 administrative review, the Department preliminarily found that Suryamitra Exim (P) Ltd. is the successor-in-interest to Surya Marine Exports. See 2006-2007 Indian Shrimp Preliminary Results, 73 FR at 12106. If the Department continues to make this finding in the final results of the 2006-2007 administrative review, we will rescind this review with respect to Surya Marine Exports.
###### The petitioner's request for review included certain companies with similar names. For purposes of initiation, we have treated these companies as the same entity based on information obtained in the 2004-2006 or 2006-2007 administrative review. See the March 31, 2008, memorandum from Elizabeth Eastwood to the File entitled, “Placing Public Information from the 2004-2006 and 2007-2008 Antidumping Duty Administrative Reviews on the Record of the 2007-2008 Antidumping Duty Administrative Review on Certain Frozen Warmwater Shrimp from India.” For RVR Marine Products Private Limited, Sprint Exports Pvt. Ltd., and Universal Cold Storage Private Limited, see Certain Frozen Warmwater Shrimp from India; Partial Rescission of Antidumping Duty Administrative Review, 73 FR 6125, 6127 (Feb. 1, 2008) (Indian Shrimp Rescission FR).
####### In the 2006-2007 administrative review, the Department found that the following companies comprised a single entity: Diamond Seafoods Exports, Edhayam Frozen Foods Pvt. Ltd., Kadalkanny Frozen Foods, and Theva & Company. See 2006-2007 Indian Shrimp Preliminary Results, 73 FR at 12106. Absent information to the contrary, we intend to continue to treat these companies as a single entity for purposes of this administrative review.
######## The petitioner's request for review included the company Sri Chandrakantha Marine Exports, Ltd. For purposes of initiation, we have initiated a review on the correct company name (i.e., Sri Chandrakantha Marine Exports), but have not initiated a review on the duplicate name (i.e., Sri Chandrakantha Marine Exports, Ltd.) based on information on the record of this review. See the March 27, 2008, memorandum from Elizabeth Eastwood to the File entitled, “2007-2008 Antidumping Duty Administrative Review of Certain Frozen Warmwater Shrimp from India: Clarification of the Name and Address of Sri Chandrakantha Marine Exports.”

THAILAND
Certain Frozen Warmwater Shrimp, A-549-822 | 2/1/07 - 1/31/08
ACU Transport Co., Ltd.
Andaman Seafood Co., Ltd.*
Ampai Frozen Food Co., Ltd.
Anglo-Siam Seafoods Co., Ltd.
Applied DB Ind
A.S. Intermarine Foods Co., Ltd.
Asia Pacific (Thailand) Co., Ltd.***
Asian Seafoods Coldstorage Public Co., Ltd.
Asian Seafoods Coldstorage (Suratthani) Co., Ltd.
Assoc. Commercial Systems
A. Wattanachai Frozen Products Co., Ltd.
Bangkok Dehydrated Marine Product Co., Ltd.
Bright Sea Co., Ltd.
C P Mdse
C Y Frozen Food Co., Ltd.
Chaiwarut Co., Ltd.
Chaivaree Marine Products Co., Ltd.
Chanthaburi Seafoods Co., Ltd.*/******
Chanthaburi Frozen Food Co., Ltd.*
Charoen Pokphand Foods Public Co., Ltd.
Chonburi L C
Chue Eie Mong Eak Ltd. Part.
Core Seafood Processing Co., Ltd.
Crystal Seafood
Daedong (Thailand) Co. Ltd.
Daiei Taigen (Thailand) Co., Ltd.
Daiho (Thailand) Co., Ltd.
Dynamic Intertransport Co., Ltd.
Earth Food Manufacturing Co., Ltd.
Euro-Asian International Seafoods Co., Ltd.*
F.A.I.T. Corporation Limited
Far East Cold Storage Co., Ltd.
Findus (Thailand) Ltd.
Fortune Frozen Foods (Thailand) Co., Ltd.
Frozen Marine Products Co., Ltd.
Gallant Ocean (Thailand) Co., Ltd.
Gallant Ocean Seafood Corporation
Good Fortune Cold Storage Co., Ltd.
Good Luck Product Co., Ltd.
Grobest Frozen Foods Co., Ltd.
Gulf Coast Crab Intl
H.A.M. International Co., Ltd.
Haitai Seafood Co., Ltd.
Heng Seafood Limited Partnership
Heritrade Co., Ltd.
HIC (Thailand) Co., Ltd.
High Way International Co., Ltd.
I.T. Foods Industries Co., Ltd.
Inter-Oceanic Resources Co., Ltd.
Inter-Pacific Marine Products Co., Ltd.*******
Intersia Foods Co., Ltd.
K .D. Trading Co., Ltd.
K Fresh
KF Foods
K.L. Cold Storage Co., Ltd.
Kiang Huat Sea Gull Trading Frozen Food Public Co., Ltd.
Kingfisher Holdings Ltd.
Kibun Trdg
Klang Co., Ltd.********
Kitchens of the Ocean (Thailand) Ltd.
Kongphop Frozen Foods Co., Ltd.
Kosamut Frozen Foods Co., Ltd.
Lee Heng Seafood Co., Ltd.
Leo Transports
Li-Thai Frozen Foods Co., Ltd.
Lucky Union Foods Co., Ltd.*******
Maersk Line
MKF Interfood (2004) Co., Ltd.
Magnate & Syndicate Co., Ltd.
Mahachai Food Processing Co., Ltd.
Marine Gold Products Limited
May Ao Co., Ltd.
May Ao Foods Co., Ltd.
Merkur Co., Ltd.
Ming Chao Ind Thailand
N&N Foods Co., Ltd.
Namprik Maesri Ltd. Part.
Narong Seafood Co., Ltd.*****
Nongmon SMJ Products
NR Instant Produce Co., Ltd.
Ongkorn Cold Storage Co., Ltd.
Pacific Queen Co., Ltd.
Pakfood Public Company Limited***
Penta Impex Co., Ltd.
Phattana Frozen Food Co., Ltd.*
Phattana Seafood Co., Ltd.*
Pinwood Nineteen Ninety Nine
Piti Seafoods Co., Ltd.
Premier Frozen Products Co., Ltd.
Preserved Food Specialty Co., Ltd.
Queen Marine Food Co., Ltd.
Rayong Coldstorage (1987) Co., Ltd.
S&D Marine Products Co., Ltd.
S&P Aquarium
S&P Syndicate Public Company Ltd.
S. Chaivaree Cold Storage Co., Ltd.
S.C.C. Frozen Seafood Co., Ltd.*
SCT Co., Ltd.
S. Khonkaen Food Industry Public Co., Ltd.*****
SMP Foods Products Co., Ltd.*****
Samui Foods Company Limited
Sea Bonanza Food Co., Ltd.*****
Sea Wealth Frozen Food Co., Ltd.
Seafoods Enterprise Co., Ltd.
Seafresh Fisheries
Seafresh Industry Public Co., Ltd.
Search & Serve
Shianlin Bangkok Co., Ltd.
Siam Canadian Foods Co., Ltd.
Siam Food Supply Co., Ltd.
Siam Intersea Co., Ltd.
Siam Marine Products Co. Ltd.
Siam Ocean Frozen Foods Co. Ltd.
Siam Union Frozen Foods
Siamchai International Food Co., Ltd.
Sky Fresh Co., Ltd.
Smile Heart Foods Co. Ltd.
Songkla Canning PCL
Southport Seafood
Star Frozen Foods Co., Ltd.
STC Foodpak Ltd.
Suntechthai Intertrading Co., Ltd.
Surapon Foods Public Co., Ltd.
Surapon Nichirei Foods Co., Ltd.
Surapon Seafood
Surat Seafoods Co., Ltd.
Suratthani Marine Products Co., Ltd.******
Suree Interfoods Co., Ltd.
T.S.F. Seafood Co., Ltd.
Tanaya International Co., Ltd.
Takzin Ssmut***
Teppitak Seafood Co., Ltd.
Tey Seng Cold Storage Co., Ltd.
Tep Kinsho Foods Co., Ltd.
Thai-Ger Marine Co., Ltd.
Thai Agri Foods Public Co., Ltd.
Thai Excel Foods Co., Ltd.
Thai I-Mei Frozen Foods Co., Ltd.
Thai International Seafoods Co., Ltd.*
Thai Mahachai Seafood Products Co., Ltd.
Thai Ocean Venture Co., Ltd.
Thai Patana Frozen
Thai Prawn Culture Center Co., Ltd.
Thai Royal Frozen Food Co. Ltd.
Thai Spring Fish Co., Ltd.
Thai Union Frozen Products Public Co., Ltd.****
Thai Union Manufacturing Co., Ltd.
Thai Union Seafood Co., Ltd.****
Thai World Imports & Exports
Thai Yoo Ltd., Part.
Thailand Fishery Cold Storage Public Co., Ltd.*/*******
The Siam Union Frozen Food Co., Ltd.
The Union Frozen Products Co., Ltd.*******
Trang Seafood Products Public Co., Ltd.
Transamut Food Co., Ltd.
Tung Lieng Trdg
United Cold Storage Co., Ltd.
V Thai Food Product
Wales & Co. Universe Ltd.*
Wann Fisheries Co., Ltd.
Xian-Ning Seafood Co., Ltd.
Y2K Frozen Foods Co., Ltd.*
Yeenin Frozen Foods Co., Ltd.
YHS Singapore Pte
ZAFCO TRDG
* In the original investigation and the 2006-2007 administrative review of this proceeding, the Department found that the following companies comprised a single entity: Andaman Seafood Co., Ltd., Chanthaburi Seafood Co., Ltd., Chanthaburi Frozen Foods Co., Ltd., Euro-Asian International Seafoods Co., Ltd., Intersia Foods Co, Ltd. (formerly Y2K Frozen Foods Co., Ltd.), Phattana Frozen Food Co., Ltd., Phattana Seafood Co., Ltd., S.C.C. Frozen Seafood Co., Ltd., Thai International Seafoods Co., Ltd., Thailand Fishery Cold Storage Public Co., Ltd., and Wales & Co. Universe Ltd. See, e.g., Notice of Final Determination of Sales at Less Than Fair Value and Final Negative Determination of Critical Circumstances: Certain Frozen and Canned Warmwater Shrimp From Thailand, 69 FR 76918, 76920 (Dec. 23, 2004) (Thai Shrimp Final LTFV Determination). Absent information to the contrary, we intend to continue to treat these companies as a single entity for purposes of this administrative review.
*** In the 2004-2006 administrative review of this proceeding, the Department found that the following companies comprised a single entity: Pakfood Public Company Limited, Asia Pacific (Thailand) Co., Ltd. and Takzin Samut Company Limited. See Certain Frozen Warmwater Shrimp from Thailand: Final Results and Final Partial Rescission of Antidumping Duty Administrative Review, 72 FR 52065 (Sept. 12, 2007). Absent information to the contrary, we intend to continue to treat these companies as a single entity for purposes of this administrative review.
**** In the 2006-2007 administrative review of this proceeding, the Department preliminarily found that the following companies comprised a single entity: Thai Union Frozen Products Co., Ltd. and Thai Union Seafood Co., Ltd. See Certain Frozen Warmwater Shrimp from Thailand: Preliminary Results and Preliminary Partial Rescission of Antidumping Duty Administrative Review, 73 FR 12088 (Mar. 6, 2008) (Thai Shrimp 06-07 Prelim). If the Department makes a final determination that these companies comprise a single entity in the 2006-2007 administrative review, we will also treat these companies as a single entity for purposes of this administrative review, absent information to the contrary.
***** The petitioner's request for review included certain companies with identical/similar names but different addresses. For purposes of initiation, we have treated these companies as the same entity based on information obtained in the 2004-2006 administrative review. See 2006-2007 Administrative Review Initiation Notice, 72 FR at 17107.
****** The petitioner's request for review included certain companies with identical names but different addresses. For purposes of initiation, we have treated these companies as separate entities.
******* The petitioner's request for review included certain companies with duplicate names. We have initiated a review on the correct company names (i.e., Chanthaburi Seafoods Co., Ltd., Thailand Fishery Cold Storage Public Co., Ltd., Inter-Pacific Marine Products Co., Ltd., Lucky Union Foods Co., Ltd., and The Union Frozen Products Co., Ltd.), but have not initiated a review on the duplicate names (i.e., Chantaburi Seafood Co., Ltd., Fishery Cold Storage Public, International Pacific Marine Products, Lucky Union Foods, and Union Frozen Products) based on information obtained in the 2006-2007 administrative review and information on the record of this review. See Certain Frozen Warmwater Shrimp from Thailand; Partial Rescission of Antidumping Duty Administrative Review, 72 FR 50931, 50932 (Sept. 5, 2007); Thai Shrimp 06-07 Prelim, 73 FR at 12090; and the March 21, 2008, memorandum from Irina Itkin to the File entitled, “2007-2008 Antidumping Duty Administrative Review of Certain Frozen Warmwater Shrimp from Thailand: Clarification of Names and Addresses for Certain Companies for Which the Petitioners Requested a Review” (Thai Shrimp Clarification memo).
******** The petitioner's request for review included certain companies with identical names but different addresses. For purposes of initiation, we have treated these companies as the same entity based on information on the record of this proceeding. See the Thai Shrimp Clarification memo.

Incomplete Requests for Review

We have not initiated administrative reviews with respect to the companies listed below which the Department was unable to locate in prior segments and for which no new information as to the party's location was provided by the requestor. See, e.g., 2006-2007 Administrative Review Initiation Notice, 72 FR at 17110.

BRAZIL
Camexim Captura Mec Exports Imports
ECUADOR
Brimon SA
INDIA
AMI Food Products
Atta Export
Brilliant Exports
Fernando Intercontinental
Hanjar Ice and Cold Storage
I Ahamed & Company
KNR Marine Exports
Nezami Rekha Sea Food
Royal Cold Storage (India) Pvt. Ltd.
S B Agro (India) Ltd.
Sharon Exports
Sheimar Seafoods Ltd.
Sree Vaialakshrm Exports
Swarna Seafoods Ltd.
Wisdom Marine Exports
THAILAND
None.

Requests for Review of Non-Existent Companies

We have not initiated administrative reviews with respect to the companies listed below for India, which the Department determined in the 2006-2007 administrative review no longer exist. See Indian Shrimp Rescission FR, 73 FR at 6127.

INDIA
Coastal Trawlers, Ltd.
Haripriya Marine Food Exports
KRM Group
Pronto Foods Pvt. Ltd.
Saanthi Seafoods Ltd.

Notice of No Sales

The companies on which we are initiating this review should notify the Department within 30 days of publication of this notice in the Federal Register if they had no shipments, entries, or sales of the merchandise under consideration during the POR.

Selection of Respondents

Section 777A(c)(1) of the Act directs the Department to calculate individual dumping margins for each known exporter and producer of the subject merchandise. Where it is not practicable to examine all known producers/exporters of subject merchandise because of the large number of such companies, section 777A(c)(2) of the Act permits the Department to limit its examination to either: (1) a sample of exporters, producers or types of products that is statistically valid based on the information available at the time of selection; or (2) exporters and producers accounting for the largest volume of subject merchandise from the exporting country that can be reasonably examined. Due to the large number of firms requested for these administrative reviews and the resulting administrative burden to review each company for which a request has been made, the Department is exercising its authority to limit the number of respondents selected for review. See section 777A(c)(2) of the Act. In selecting the respondents for individual review, the Department intends to select respondents based on U.S. Customs and Border Protection (“CBP”) data for U.S. imports during the period of review.

We intend to release the CBP data under administrative protective order (APO) to all parties having an APO within five days of publication of this Federal Register notice, and to make our decisions regarding respondent selection within 20 days of publication of this notice. The Department invites comments regarding the CBP data and respondent selection within 10 days of publication of this Federal Register notice.

Interested parties must submit applications for disclosure under APO in accordance with 19 CFR 351.305. Instructions for filing such applications may be found on the Department's website at http://ia.ita.doc.gov/apo.

This initiation and notice are in accordance with section 751(a)(1) of the Act and 19 CFR 351.221(c)(1)(i).

Dated: March 31, 2008.
Stephen J. Claeys,
Deputy Assistant Secretary for Import Administration.

[FR Doc. E8-7222 Filed 4-4-08; 8:45 am]

BILLING CODE 3510-DS-S